NATIONAL SCIENCE FOUNDATION

Special Emphasis Panel in Social, Behavioral and Economic Sciences; Notice of Meeting

In accordance with the Federal Advisory Committee Act (Pub. L. 92-463, as amended), the National Science Foundation announces the following meeting:

Name: Special Emphasis Panel in Social, Behavioral, and Economic Sciences (#1766).

Date/Time: January 4-5, 2001; 8 a.m. to 5 p.m.

Place: National Science Foundation, 4201 Wilson Blvd., Rooms 360, 3365, and 360, Arlington, VA.

Type of Meeting: Closed.

Contact Person: Ms. Susan Parris, Program Manager, International Research Fellowship Program, Division of International Programs, National Science Foundation, 4201 Wilson Boulevard, Room 935, Arlington, VA 22230, (703) 306-1711.

Purpose of Meeting: To provide advice and recommendations concerning proposals submitted to the National Science Foundation for financial support.

Agenda: To review and evaluate applications to the International Research Fellowship Program submitted in response to the program announcement (NSF 00141).

Reason for Closing: The proposals being reviewed include information of a proprietary or confidential nature, including technical information, financial data such as salaries, and personal information concerning individuals associated with the proposals. These matters are exempt under 5 U.S.C. 552b(c), (4) and (6) of the Government in the Sunshine Act.

Dated: October 31, 2000.
Karen J. York,
Committee Management Officer.

[FR Doc. 00-28406 Filed 11-3-00; 8:45 am]

BILLING CODE 7555-01-M